ENVIRONMENTAL PROTECTION AGENCY

[ER-FRL-9032-5]

Environmental Impact Statements; Notice of Availability

Responsible Agency: Office of Federal Activities, General Information (202) 564-7146 or http://www.epa.gov/nepa.

Weekly receipt of Environmental Impact Statements (EISs)

Filed 03/27/2017 Through 03/31/2017

Pursuant to 40 CFR 1506.9

Notice

Section 309(a) of the Clean Air Act requires that EPA make public its comments on EISs issued by other Federal agencies. EPA's comment letters on EISs are available at: http://www.epa.gov/compliance/nepa/eisdata.html.

EIS No. 20170052, Draft, FEMA, NAT, PROGRAMMATIC—National Flood Insurance Program, Comment Period Ends: 06/06/2017, Contact: Bret Gates 202-646-2780

Dated: April 4, 2017.
Dawn Roberts,
Management Analyst, NEPA Compliance Division, Office of Federal Activities.

[FR Doc. 2017-06975 Filed 4-6-17; 8:45 am]

BILLING CODE 6560-50-P